DEPARTMENT OF TRANSPORTATION

Federal Aviation Administration

14 CFR Part 39

[Docket No. 99-NE-36-AD; Amendment 39-11763; AD 2000-11-15]

RIN 2120-AA64

Airworthiness Directives; Honeywell International Inc. (Formerly AlliedSignal Inc.) ALF502R and LF507 Series Turbofan Engines

AGENCY: Federal Aviation Administration, DOT.

ACTION: Final rule.

SUMMARY: This amendment adopts a new airworthiness directive (AD), that requires revisions to Chapter 5, Airworthiness Limitations section, of the Honeywell International Inc. ALF502R and LF507 series Engine Manuals to include required enhanced inspection of selected critical life-limited parts at each piece-part exposure. This action requires an air carrier's approved continuous airworthiness maintenance program to incorporate these inspection procedures. This action is prompted by a Federal Aviation Administration (FAA) study of in-service events involving uncontained failures of critical rotating engine parts that indicated the need for improved inspections. The improved inspections are needed to identify those critical rotating parts with conditions, which if allowed to continue in service, could result in uncontained failures. The actions specified by this AD are intended to prevent critical life-limited rotating engine part failure, which could result in an uncontained engine failure and damage to the airplane.

DATES: Effective July 10, 2000.

ADDRESSES: The rules docket may be examined at the Federal Aviation Administration (FAA), New England Region, Office of the Regional Counsel, 12 New England Executive Park, Burlington, MA.

FOR FURTHER INFORMATION CONTACT: Robert Baitoo, Aerospace Engineer Los Angeles Aircraft Certification Office, FAA, Transport Airplane Directorate, 3960 Paramount Blvd., Lakewood, CA 90712-4137; telephone (562) 627-5245, fax (562) 627-5210.

SUPPLEMENTARY INFORMATION: A proposal to amend part 39 of the Federal Aviation Regulations (14 CFR part 39) to include an airworthiness directive (AD) that is applicable to AlliedSignal Inc. ALF502R and LF507 series turbofan engines was published in the Federal Register on August 5, 1999 (64 FR 42619). That action proposed to require revisions to Chapter 5, Airworthiness Limitations section, of the Honeywell International Inc. ALF502R and LF507 engine manual, and, for air carriers, their approved continuous airworthiness maintenance program. Honeywell International Inc. (formerly AlliedSignal Inc.), the manufacturer of ALF502R and LF507 series turbofan engines, has provided the FAA with a detailed proposal that identifies and prioritizes the critical rotating engine parts with the highest potential to hazard the airplane in the event of failure, along with instructions for enhanced, focused inspection methods. These enhanced inspections will be conducted at piece-part opportunity, as defined in this AD, rather than at specific inspection intervals.

Comment Received

Interested persons have been afforded an opportunity to participate in the making of this amendment. Due consideration has been given to the comment received.

The commenter supports the rule as proposed.

The FAA notes that several different companies have held the type certificate for these engine models. In order to make certain that all manuals are revised to include the enhanced inspection program, not just the manuals that bear the name of the current holder of the type certificate, the FAA has added the names of the former type certificate holders to paragraph (a). After careful review of the available data, including the comments noted above, the FAA has determined that air safety and the public interest require the adoption of the rule with this change. The FAA has determined that this change will neither increase the economic burden on any operator nor increase the scope of the AD.

Economic Analysis

The FAA estimates that 200 engines installed on airplanes of US registry would be affected by this AD, that it would take approximately 56 work hours per engine to accomplish the required actions. The average labor rate is $60 per work hour. Based on these figures, the total cost impact of the AD on US operators is estimated to be $672,000.

Regulatory Impact

The regulations adopted herein will not have a substantial direct effect on the States, on the relationship between the national Government and the States, or on the distribution of power and responsibilities among the various levels of government. Therefore, it is determined that this final rule does not have federalism implications under Executive Order 13132.

For the reasons discussed above, I certify that this regulation (1) IS not a “significant regulatory action” under Executive Order 12866; (2) is not a “significant rule” under the DOT Regulatory Policies and Procedures (44 FR 11034, February 26, 1979); and (3) will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-11-15 Honeywell International Inc.: Amendment 39-11763. Docket 99-NE-36-AD.

Applicability: Honeywell International Inc. (formerly AlliedSignal, Textron Lycoming and Avco Lycoming) ALF502R and LF507 series turbofan engines, installed on but not limited to British Aerospace BAe 146-100A, BAe 146-200A, BAe 146-300A, AVRO 146-RJ70A, AVRO 146-RJ85A, and AVRO 146-100A series airplanes.

Note 1: This airworthiness directive (AD) applies to each engine identified in the preceding applicability provision, regardless of whether it has been modified, altered, or repaired in the area subject to the requirements of this AD. For engines that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent critical life-limited rotating engine part failure, which could result in an uncontained engine failure and damage to the airplane, accomplish the following:

(a) Within 60 days after the effective date of this AD, revise Chapter 5, Airworthiness Limitations section, of the Honeywell International Inc. ALF502R and LF507 Engine Manuals, and the appropriate manuals of former type certificate holders of the engine design including: Allied Signal Inc.; Textron Lycoming, Stratford Division; Avco Lycoming, Stratford Division and Avco Lycoming Engine Group, Stratford Division, Connecticut, and for air carrier operations revise the approved continuous airworthiness maintenance program, by adding the following:

“Chapter 5, Airworthiness Limitations Section, Mandatory Inspections:

(1) Perform inspections of the following parts at each piece-part opportunity in accordance with the instructions provided in the applicable manual provisions:

Part nomenclature | Part number (P/N) | Inspect per engine manual chapter
For ALF502R series turbofan engines:
Fan Disc | All | 72-31-07 Inspection/Check.
First Turbine Disc | All | 72-51-12 Inspection/Check.
Second Turbine Disc | All | 72-51-21 Inspection/Check.
Impeller | All | 72-34-38 Inspection/Check.
LPT Shaft/3rd Turbine | All | 72-52-03 Inspection/Check.
Fourth Turbine Disc | All | 72-52-06 Inspection/Check.
For LF507 series turbofan engines:
Fan Disc | All | 72-31-08 Inspection/Check.
First Turbine Disc | All | 72-51-11 Inspection/Check.
Second Turbine Disc | All | 72-51-20 Inspection/Check.
Impeller | All | 72-34-20 Inspection/Check.
LPT Shaft/3rd Turbine | All | 72-52-24 Inspection/Check.
Fourth Turbine Disc | All | 72-52-03 Inspection/Check.

(2) For the purposes of these mandatory inspections, piece-part opportunity means:

(i) The part is completely disassembled when done in accordance with the disassembly instructions in the engine manufacturer's Engine Manual; and

(ii) The part has accumulated more than 100 cycles in service since the last piece-part opportunity inspection, provided that the part was not damaged or related to the cause for its removal from the engine.”

(b) Except as provided in paragraph (c) of this AD, and notwithstanding contrary provisions in section 43.16 of the Federal Aviation Regulations (14 CFR 43.16), these mandatory inspections shall be performed only in accordance with Chapter 5, Airworthiness Limitations section, of the Honeywell International Inc. ALF502R and LF507 Engine Manuals.

(c) An alternative method of compliance or adjustment of the compliance time that provides an acceptable level of safety may be used if approved by the Manager, Los Angeles Aircraft Certification Office. Operators shall submit their requests through an appropriate FAA Principal Maintenance Inspector (PMI), who may add comments and then send it to the Manager, Los Angeles Aircraft Certification Office.

Note 2: Information concerning the existence of approved alternative methods of compliance with this airworthiness directive, if any, may be obtained from the Los Angeles Aircraft Certification Office.

(d) Special flight permits may be issued in accordance with sections 21.197 and 21.199 of the Federal Aviation Regulations (14 CFR 21.197 and 21.199) to operate the airplane to a location where the requirements of this AD can be accomplished.

(e) FAA-certificated air carriers that have an approved continuous airworthiness maintenance program in accordance with the record keeping requirement of § 121.369(c) of the Federal Aviation Regulations [14 CFR 121.369(c)] must maintain records of the mandatory inspections that result from revising the Engine Manual's Chapter 5, Airworthiness Limitations section, and the air carrier's continuous airworthiness program. Alternately, certificated air carriers may establish an approved system of record retention that provides a method for preservation and retrieval of the maintenance records that include the inspections resulting from this AD, and include the policy and procedures for implementing this alternate method in the air carrier's maintenance manual required by § 121.369 (c) of the Federal Aviation Regulations [14 CFR 121.369(c)]; however, the alternate system must be accepted by the appropriate PMI and require the maintenance records be maintained either indefinitely or until the work is repeated. Records of the piece-part inspections are not required under § 121.380(a)(2)(vi) of the Federal Aviation Regulations [14 CFR 121.380 (a) (2) (vi)]. All other operators must maintain the records of mandatory inspections required by the applicable regulations governing their operations.

Note 3: The requirements of this AD have been met when the engine manual changes are made and air carriers have modified their continuous airworthiness maintenance plans to reflect the requirements in the Engine Manuals.

(f) This amendment becomes effective on July 10, 2000.

Issued in Burlington, Massachusetts, on May 26, 2000.
Jay J. Pardee,
Manager, Engine and Propeller Directorate, Aircraft Certification Service.

[FR Doc. 00-13873 Filed 6-2-00; 8:45 am]

BILLING CODE 4910-13-U